DEPARTMENT OF DEFENSE

Department of the Army, Corps of Engineers

Final Supplemental Environmental Impact Statement for the Wyoming Valley Levee Raising Project, Wilkes-Barre, PA

Correction

In notice document 05-13855 beginning on page 40691 in the issue of Thursday, July 14, 2005, make the following correction:

On page 40692, in the first column, in the sixth paragraph, in the third line, the Web site address should read, “http://www.nab.usace.army.mil/publications/non-reg_pub.html.”

[FR Doc. C5-13855 Filed 7-19-05; 8:45 am]

BILLING CODE 1505-01-D

SECURITIES AND EXCHANGE COMMISSION

[Release No. 34-51902; File No. SR-ISE-2005-19]

Self-Regulatory Organizations; International Securities Exchange, Inc.; Notice of Filing and Immediate Effectiveness of Proposed Rule Change and Amendment No. 1 Thereto Relating to Its Membership Dues Fee

June 22, 2005.

Correction

In notice document 05-12886 beginning on page 37878 in the issue of Thursday, June 30, 2005, make the following correction:

On page 37878, in the third column, after the subject line, the date is added to read as set forth above.

[FR Doc. C5-12886 Filed 7-19-05; 8:45 am]

BILLING CODE 1505-01-D